DEPARTMENT OF COMMERCE

National Oceanic and Atmospheric Administration

[I.D. 122806C]

Gulf of Mexico Fishery Management Council (Council); Public Meetings

AGENCY: National Marine Fisheries Service (NMFS), National Oceanic and Atmospheric Administration (NOAA), Commerce.

ACTION: Notice of public meetings.

SUMMARY: The Gulf of Mexico Fishery Management Council will convene public meetings.

DATES: The meeting will be held January 22 -26, 2007.

ADDRESSES: The meeting will be held at the Grand Hotel Marriott, 1 Grand Blvd., Point Clear AL 36564.

Council address: Gulf of Mexico Fishery Management Council, 2203 North Lois Avenue, Suite 1100, Tampa, FL, 33607.

FOR FURTHER INFORMATION CONTACT: Wayne E. Swingle, Executive Director, Gulf of Mexico Fishery Management Council; telephone: 813-348-1630.

SUPPLEMENTARY INFORMATION:

Council

Thursday, January 25, 2007—The Council will begin at 8:30 am to review the agenda and minutes. Public testimony on a regulatory amendment to address vermilion snapper management and exempted fishing permits (EFPs), if any, will be from 8:45 to 10 a.m. Persons wishing to testify on the regulatory amendment must register by filling out a public testimony card prior to the beginning of the testimony period. From 10 a.m. to 12 p.m. the Council will hold an Open Public Comment Period regarding any fishery issue or concern. People wishing to speak before the Council should complete a public comment card prior to the comment period. From 1:30-2 p.m. the Council will hear a presentation regarding Dolphin Depredation. The Council will then review and discuss reports from the previous three day's committee meetings as follows: 2-3:30 pm—Reef Fish Management; 3:30-4:15 pm—Joint Reef Fish/Shrimp Management Committees; 4:15-4:45 pm—Shrimp Management Committee; 4:45-5:00 pm—Mackerel Management Committee; 5-5:15 p.m.—Data Collection Committee; Budget/Personnel Committee from 5:15-5:30 p.m.

Friday, January 26, 2007—The Council will begin at 8:30 a.m. to continue reviewing and discussing reports from the previous three day's committee meetings as follows: 8:30 -8:45 am—Migratory Species Management Committee; 8:45 -9 a.m.—SSC Selection Committee; 9-9:30 a.m. Joint Reef Fish/Mackerel/Red Drum Committees. The Council will conclude its meeting by discussing Other Business items from 9:30 -10:30 a.m.

Committees

Monday, January 22, 2007, 1-5:30 p.m.—The Reef Fish Management Committee will meet to take final action on a Regulatory Amendment for Vermilion Snapper, review Reef Fish Amendment 30 (gag, amberjack, triggerfish, red grouper), and set scoping hearings. The Committee will also review the Ad Hoc Grouper IFQ Advisory Panel's (AP) recommendations for Reef Fish Amendment 29 (Grouper Individual Fishing Quota [IFQ]), as well as review a Florida Fish and Wildlife Conservation Commission study and Southeast Fisheries Science Center recommendations for a goliath grouper scientific harvest.

Tuesday, January 23, 2007, 8:30 a.m.-12 p.m. —The Joint Reef Fish/Shrimp Management Committee will meet to receive a presentation on red snapper juvenile densities off Texas. The Committee will also review the current Draft Joint Reef Fish Amendment 27/Shrimp Amendment 14 and additional potential shrimp actions; the Committee report from the August 2006 meeting; the NMFS' FEIS and Interim Rule; the Final Shrimp Effort Workgroup and the Ad Hoc Shrimp Effort Management AP Reports; and consider linked vs. delinked shrimp and reef fish mortality reduction scenarios for Reef Fish Amendment 27/Shrimp Amendment 14. The Committee may also select public hearing locations for Reef Fish Amendment 27/Shrimp Amendment 14 and review Reef Fish 31/Shrimp 15 options.

1:30-4 p.m.—The Joint Reef Fish/Shrimp Management Committee continues.

4-5 p.m.—The Shrimp Management Committee will meet to receive a report of the Texas shrimp closure analyses and the Shrimp AP recommendations.

5-5:30 p.m. (CLOSED COUNCIL SESSION) The Scientific and Statistical Committee (SSC) Selection Committee, which met prior to the meeting, will give their recommendations for Select SSC Subcommittee members to monitor NMFS' Design and Analysis Group.

Wednesday, January 24, 2007, 8:30-10:30 a.m. —The Data Collection Committee will meet to discuss the Committee's charge under the Council's Standard Operating Practices and Procedures's (SOPPS); consider action to require a recreational saltwater fishing license/permit in the Exclusive Economic Zone (EEZ); discuss reporting requirements for the recreational-for-hire sector; review the existing Gulf charter and head boat surveys; and discuss the Magnuson-Stevens Fishery Conservation and Management Act recreational data provision for a vessel registry along with state licensing and reporting requirements.

10:30-11:30 a.m.—The Mackerel Management Committee will meet to review an update on status criteria and acceptable biological catch (ABC) projections for king mackerel and to approve Amendment 18 to the Coastal Migratory Pelagics Fishery Management Plan (FMP) for public hearings.

1-3 p.m.—The Joint Reef Fish/Mackerel/Red Drum Committees will meet to discuss an Options Paper for an Aquaculture Amendment by possibly selecting preferred alternatives and scheduling public hearing locations.

3-3:45 p.m.—The Budget/Personnel Committee will meet to review the draft CY 2007 operating budget and consider increases in state liaison funding.

3:45-5:30 p.m.—The Migratory Species Management Committee will meet to discuss a proposed rule by NMFS to relax swordfish regulations and highly migratory species essential fish habitat.

The committee reports will be presented to the Council for consideration on Thursday January 25, and on Friday, January 26, 2007.

Although other non-emergency issues not on the agendas may come before the Council and Committees for discussion, in accordance with the M-SFCMA, those issues may not be the subject of formal action during these meetings. Actions of the Council and Committees will be restricted to those issues specifically identified in the agendas and any issues arising after publication of this notice that require emergency action under Section 305(c) of the M-SFCMA, provided the public has been notified of the Council's intent to take action to address the emergency. The established times for addressing items on the agenda may be adjusted as necessary to accommodate the timely completion of discussion relevant to the agenda items. In order to further allow for such adjustments and completion of all items on the agenda, the meeting may be extended from, or completed prior to the date established in this notice.

These meetings are physically accessible to people with disabilities. Requests for sign language interpretation or other auxiliary aids should be directed to Tina Trezza at the Council (see ADDRESSES) at least 5 working days prior to the meeting.

Dated: December 29, 2006.
Tracey L. Thompson,
Acting Director, Office of Sustainable Fisheries, National Marine Fisheries Service.

[FR Doc. E6-22597 Filed 1-4-07; 8:45 am]

BILLING CODE 3510-22-S